DEPARTMENT OF LABOR

Employment and Training Administration

[TA-W-81,932]

The Evercare Company Including On-Site Leased Workers From Global Personnel Solutions and Manpower Waynesboro, Georgia; Amended Certification Regarding Eligibility To Apply for Worker Adjustment Assistance

In accordance with Section 223 of the Trade Act of 1974, as amended (“Act”), 19 U.S.C. 2273, the Department of Labor issued a Certification of Eligibility to Apply for Worker Adjustment Assistance on September 14, 2012, applicable to workers and former workers of The Evercare Company, Waynesboro, Georgia (subject firm). The subject worker group included on-site leased workers from Global Personnel Solutions.

In response to an inquiry by the State of Georgia, the Department reviewed the certification for workers of the subject firm. According to information provided by the subject firm and Manpower, Manpower workers on-site at the subject firm supplied staffing services and the separation of Manpower workers is due to the subject firm's acquisition from a foreign country the production of articles like or directly competitive with the consumer package goods produced by the subject firm.

The amended notice applicable to TA-W-81,932 is hereby issued as follows:

All workers of The Evercare Company, including on-site leased workers from Global Personnel Solutions and Manpower, Waynesboro, Georgia, who became totally or partially separated from employment on or after August 23, 2011 through September 14, 2014, and all workers in the group threatened with total or partial separation from employment on date of certification through two years from the date of certification, are eligible to apply for adjustment assistance under Chapter 2 of Title II of the Trade Act of 1974, as amended.

Signed in Washington, DC, this 22nd day of February, 2013.
Del Min Amy Chen,
Certifying Officer, Office of Trade Adjustment Assistance.

[FR Doc. 2013-05455 Filed 3-7-13; 8:45 am]

BILLING CODE 4510-FN-P